DEPARTMENT OF THE INTERIOR

Bureau of Indian Affairs

Deputy Director—Indian Services; Proposed Agency Information Collection Activities; Comment Request

AGENCY: Bureau of Indian Affairs, Interior.

ACTION: Notice of proposed renewal of information collection.

SUMMARY: The Bureau of Indian Affairs (BIA) is seeking comments in preparation for the renewal of the Indian Child Welfare Annual Report. The information collected will aid BIA in fulfilling the requirements of the law. This renewal meets the requirements of the Paperwork Reduction Act of 1995. The Bureau is soliciting public comments on the subject proposal.

DATES: Submit comments on or before March 17, 2008.

ADDRESSES: Interested parties are invited to submit written comments regarding this proposal. Comments should refer to the proposal by name and/or OMB Control Number and should be sent to Stephanie E. Birdwell, Chief, Division of Human Services, Bureau of Indian Affairs, Department of Interior, 1849 C Street, NW., MS-4513-MIB, Washington, DC 20240. Telephone: (202) 513-7621.

FOR FURTHER INFORMATION CONTACT: Copies of the collection of information form or requests for additional information should be directed to Stephanie E. Birdwell, Bureau of Indian Affairs, Department of the Interior, 1849 C Street, NW., MS-4513-MIB, Washington, DC 20240. Telephone: (202) 513-7621.

SUPPLEMENTARY INFORMATION:

I. Abstract

The information collection required by the use of this form is necessary to comply with Public Law 95-608, The Indian Child Welfare Act of 1978, as codified at 25 U.S.C. 1901 et seq. and 25 CFR Part 23—Indian Child Welfare Act (ICWA). This information is collected through the use of a consolidated caseload form by tribal Indian Child Welfare Act program directors who are the providers of the ICWA services. The information is used to determine the extent of service needs in local Indian communities, to assess the effectiveness of the Indian Child Welfare Act program, and to provide data for the annual program budget justification. The responses to this request for information collection are voluntary and the aggregated report is not considered confidential. The public is not required to respond unless a currently valid OMB control number is displayed.

II. Request for Comments

Please note that all comments received will be available for public review two weeks after publication in the Federal Register. Before including your address, phone number, e-mail address, or other personal identifying information in your comment, be advised that your entire comment-including your personal identifying information-may be made publicly available at any time. While you can ask us in your comment to withhold from public review your personal identifying information, we cannot guarantee that we will be able to do so.

It is our policy to make all comments available to the public for review at the location listed in the ADDRESSES section, room 355-E, during the hours of 7:00 a.m.—4 p.m., EST Monday through Friday except for legal holidays. All comments from organizations or representatives will be available for review. We may withhold comments from review for other reasons.

Request for Comments: The Bureau of Indian Affairs requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

OMB Control Number: 1076-0131.

Type of review: [Renewal.]

Title: Department of the Interior, Bureau of Indian Affairs, Indian Child Welfare Act Annual Report, 25 CFR Part 23.4.

Brief Description of collection: Indian tribes are required to collect selected data on Indian child welfare cases and submit them to the Bureau for consolidation. This data is useful on a local level, to the tribes, and tribal organizations that collect it, for case management purposes and on a nationwide basis for planning and budget purposes.

Respondents: Indian tribes or tribal entities who are operating programs for Indian tribes.

Number of Respondents: 536.

Estimated Time per Response: 30 minutes.

Frequency of Response: Quarterly.

Estimated Annual Burden to Respondents: 1072 hours.

Dated: December 31, 2007.
Carl J. Artman,
Assistant Secretary—Indian Affairs.

[FR Doc. E8-518 Filed 1-14-08; 8:45 am]

BILLING CODE 4310-4J-P